DEPARTMENT OF COMMERCE

National Oceanic and Atmospheric Administration

RIN 0648-XF266

Gulf of Mexico Fishery Management Council; Public Meeting

AGENCY: National Marine Fisheries Service (NMFS), National Oceanic and Atmospheric Administration (NOAA), Commerce.

ACTION: Meeting notice; via webinar.

SUMMARY: The Gulf of Mexico Fishery Management Council (Council) will hold a public hearing via webinar to solicit public comments on Reef Fish Amendment 36A—Modifications to Commercial Individual Fishing Quota (IFQ) Programs.

DATES: The public hearing webinar will take place on Wednesday, March 22, 2017, starting at 6 p.m. EST and will conclude no later than 9 p.m. See SUPPLEMENTARY INFORMATION for how to participate. Written public comments must be received on or before 5 p.m. EST on Tuesday, March 28, 2017.

ADDRESSES:

Meeting address: The public hearing will be held via webinar; see SUPPLEMENTARY INFORMATION for how to participate.

Council address: Gulf of Mexico Fishery Management Council, 2203 N. Lois Avenue, Suite 1100, Tampa, FL 33607; (813) 348-1630.

Public comments: Comments may be submitted online through the Council's public portal by visiting www.gulfcouncil.org and clicking on “CONTACT US”.

FOR FURTHER INFORMATION CONTACT: Ava Lasseter, Anthropologist, Gulf of Mexico Fishery Management Council; telephone: (813) 348-1630.

SUPPLEMENTARY INFORMATION: The Council staff will brief the public on Reef Fish Amendment 36A—Modifications to Commercial Individual Fishing Quota (IFQ) Programs. The amendment considers actions to improve program compliance, address non-activated accounts, and authority to retain annual allocation before a quota reduction. Staff will then open the meeting for questions and public comments. The schedule is as follows:

Wednesday, March 22, 2017, Webinar at 6 p.m. EST: Public Hearing: Reef Fish Amendment 36A—Modifications to Commercial IFQ Programs https://attendee.gotowebinar.com/register/8308877810229905155.

After registering, you will receive a confirmation email containing information about joining the webinar.

Copies of the public hearing documents can be obtained by calling (813) 348-1630 or visiting www.GulfCouncil.org.

Special Accommodations

This meeting is physically accessible to people with disabilities. Requests for sign language interpretation or other auxiliary aids should be directed to Kathy Pereira (see ADDRESSES), at least 5 working days prior to the meeting date.

Authority: 16 U.S.C. 1801 et seq.

Dated: March 1, 2017.
Tracey L. Thompson,
Acting Deputy Director, Office of Sustainable Fisheries, National Marine Fisheries Service.

[FR Doc. 2017-04295 Filed 3-3-17; 8:45 am]

BILLING CODE 3510-22-P